DEPARTMENT OF LABOR

Employment and Training Administration

[TA-W-52,402]

Sanmina-SCI Corporation, Westbrook, ME; Notice of Termination of Investigation

Pursuant to Section 221 of the Trade Act of 1974, as amended, an investigation was initiated on July 25, 2003 in response to a petition filed by a company official on behalf of workers at Sanmina-SCI Corporation, Westbrook, Maine.

The petitioner has requested that the petition be withdrawn. Consequently, the investigation has been terminated.

Signed at Washington, DC, this 4th day of August, 2003
Linda G. Poole,
Certifying Officer, Division of Trade Adjustment Assistance.

[FR Doc. 03-20720 Filed 8-13-03; 8:45 am]

BILLING CODE 4510-30-P